DEPARTMENT OF LABOR

Comment Request for Information Collection for Quick Turnaround Surveys of the Workforce Investment Act (Extension Without Revisions)

AGENCY: Employment and Training Administration.

ACTION: Notice

.

SUMMARY: The Department of Labor, as part of its continuing effort to reduce paperwork and respondent burden, conducts a preclearance consultation program to provide the general public and Federal agencies with an opportunity to comment on proposed collections of information in accordance with the Paperwork Reduction Act of 1995 (PRA95) (44 U.S.C. 3506(c)(2)(A)). This program helps to ensure that requested data can be provided in the desired format, reporting burden (time and financial resources) is minimized, collection instruments are clearly understood, and the impact of the collection requirements on respondents can be properly assessed. Currently, the Employment and Training Administration is soliciting comments concerning the collection of data about quick turnaround surveys of the Workforce Investment Act (due to expire in May 2010).

A copy of the proposed information collection request (ICR) can be obtained by contacting the office listed below in the addressee section of this notice.

DATES: Written comments must be submitted to the office listed in the addressee's section below on or before June 1, 2010.

ADDRESSES: Submit written comments to US Department of Labor, Employment and Training Administration, Office of Policy Development and Research, Attention: Richard Muller, 200 Constitution Avenue, NW., Room N-5641, Washington, DC 20210. Telephone number: (202) 693-3680 (this is not a toll-free number). Fax: (202) 693-2766. E-mail: muller.richard@dol.gov.

FOR FURTHER INFORMATION CONTACT: Richard Muller, Employment and Training Administration, U.S. Department of Labor, 200 Constitution Avenue, NW., Room N-5637, Washington, DC 20210; (202) 693-3680 (this is not a toll-free number); e-mail: Muller.Richard@dol.gov; fax: (202) 693-2766 (this is not a toll-free number).

SUPPLEMENTARY INFORMATION:

I. Background

The Employment and Training Administration (ETA) is soliciting comments regarding an extension of a current Office of Management and Budget (OMB) clearance for a series of quick turnaround surveys in which data will be collected from state workforce agencies and local workforce investment areas. The surveys will focus on issues relating to the governance, administration, funding, service design, and delivery structure of workforce programs authorized by the Workforce Investment Act (WIA). Enacted in 1998, WIA has sought to redesign the workforce investment system by linking over a dozen separately funded Federal programs, streamlining services, and establishing new accountability requirements.

ETA has a continuing need for information on WIA operations and is seeking a further extension of the clearance for conducting a series of 8 to 20 separate surveys over the next three years. Each survey will be relatively short (10-30 questions) and, depending on the nature of the survey, may be administered to state workforce agencies, local workforce boards, One-Stop Career Centers, employment service offices, or other local-area WIA partners. Each survey will be designed on an ad hoc basis and will focus on emerging topics of pressing policy interest. Each survey will either cover the universe of respondents (for state level information) or a properly drawn random sample (for local level information). Examples of broad topic areas include:

• Local management information system developments.

• New processes and procedures.

• Services to different target groups.

• Integration and coordination with other programs.

• Local workforce investment board membership and training.

Quick turnaround surveys are needed for a number of reasons. The most pressing concerns the need to understand key operational issues in light of challenges deriving from the Administration's policy priorities and from the upcoming reauthorization of WIA and of other partner programs. Timely information, that identifies the scope and magnitude of various practices or problems, is needed for ETA to fulfill its obligations to develop high quality policy, administrative guidance, regulations, and technical assistance.

The data that will be requested in the quick turnaround surveys is not otherwise available. Other research and evaluation efforts, including case studies or long-range evaluations, either cover only a limited number of sites or take many years for data to be gathered and analyzed. Administrative information and data are too limited: The five-year Workforce Investment Plans, developed by states and local areas, are too general in nature to meet ETA's specific informational needs. Quarterly or annual data reported by states and local areas do not provide information on key operational practices and issues. Thus, ETA has no alternative mechanism for collecting information that both identifies the scope and magnitude of emerging WIA implementation issues and provides the information on a quick turnaround basis.

ETA will make every effort to coordinate the quick turnaround surveys with other research it is conducting, in order to ease the burden on local and state respondents, to avoid duplication, and to fully explore how interim data and information from each study can be used to inform other studies. Information from the quick response surveys will complement but not duplicate other ETA reporting requirements or evaluation studies.

II. Review Focus

The Department of Labor is particularly interested in comments which:

(a) Evaluate whether the proposed collection of information is necessary for the proper performance of the functions of the agency, including whether the information will have practical utility;

(b) Evaluate the accuracy of the agency's estimate of the burden of the proposed collection of information, including the validity of the methodology and assumptions used;

(c) Enhance the quality, utility and clarity of the information to be collected; and

(d) Minimize the burden of the collection of information on those who are to respond, including through the use of appropriate automated, electronic, mechanical, or other technological collection techniques or other forms of information technology, e.g., permitting electronic submissions of responses.

III. Current Actions

Type of Review: Extension without changes.

Agency: Employment and Training Administration.

Title: Quick Turnaround Surveys of WIA.

OMB Number: 1205-0436.

Affected Public: State and local workforce agencies and workforce investment boards, and WIA partner program agencies at the state and local levels.

Total Respondents: Varies by survey, from 54 to 250 respondents per survey, for up to 20 surveys. See Summary Burden chart below:

| Sample Size | Number of questions | Average time per question (minutes) | Aggregate burden hours per survey (hours) | Estimated number of surveys | Total annual burden hours
Lower-Bound | 54 | 10 | 1 | 9 | 8 | 72
Upper-Bound | 250 | 30 | 3 | 375 | 20 | 7,500

Total Burden Cost for capital and startup: $0.

Total Burden Cost for operation and maintenance: $0.

Comments submitted in response to this comment request will be summarized and/or included in the request for OMB approval of the information collection request; they will also become a matter of public record.

Dated: March 24, 2010.
Jane Oates,
Assistant Secretary, Employment and Training Administration.

[FR Doc. 2010-6997 Filed 3-29-10; 8:45 am]

BILLING CODE 4510-FN-P